DEPARTMENT OF TRANSPORTATION

National Highway Traffic Safety Administration

Information Collection Activities: Submission for the Office of Management and Budget (OMB) Review; Request for Comment

AGENCY: National Highway Traffic Safety Administration (NHTSA), DOT.

ACTION: Notice of the OMB review of information collection and solicitation of public comment.

SUMMARY: In compliance with the Paperwork Reduction Act of 1995 (44 U.S.C. chapter 35), this notice announces that the Information Collection Request (ICR) abstracted below will be submitted to the Office of Management and Budget (OMB) for review. The ICR describes the nature of the information collection and its expected burden. A Federal Register Notice with a 60-day comment period soliciting public comments on the following information collection was published on August 14, 2012 (Federal Register/Vol. 77, No. 157/pp. 48608-48609).

DATES: Submit comments to the Office of Management and Budget (OMB) on or before May 22, 2013.

FOR FURTHER INFORMATION CONTACT: Alan Block at the National Highway Traffic Safety Administration, Office of Behavioral Safety Research (NTI-131), W46-499, Department of Transportation, 1200 New Jersey Avenue SE., Washington, DC 20590. Mr. Block's phone number is 202-366-6401 and his email address is alan.block@dot.gov.

SUPPLEMENTARY INFORMATION:

OMB Control Number: 2127-New.

Title: Survey of DWI Courts.

Form No.: NHTSA Form 1175.

Type of Review: Regular.

Respondents: All existing DWI Courts and Hybrid DWI/Drug Courts will be contacted and asked to participate in the survey. The number of such Courts is projected to be approximately 650 at the time the survey is administered. The respondents will be people involved in the running of the DWI Court program. These primarily will be Judges and Court Staff, but may include others involved in specific aspects of the DWI Court program such as treatment providers, law enforcement and probation/parole personnel. Contacted Courts will determine who is appropriate to complete the sections of the questionnaire, and may apportion different sections to different people to complete, if necessary.

Estimated Number of Respondents: A maximum of 650 DWI and Hybrid DWI/Drug Courts will respond to the survey.

Estimated Time per Response: The average amount of time for each Court to complete the survey is estimated at 40 minutes. This includes any time needed to retrieve information.

Total Estimated Annual Burden Hours: 433.33 hours.

Frequency of Collection: The survey will be administered a single time.

Abstract: DWI Courts are a relatively new intervention to combat alcohol-impaired driving and are authorized under MAP-21, the current DOT authorization. Borrowing from the Drug Court Model, they are directed at repeat offenders and offenders having high blood alcohol concentration levels (BACs) at time of arrest. These Courts attack the source of the problem by taking a comprehensive approach to changing behavior that includes treatment and close supervision. There is a body of research that now exists to show that Drug Courts are effective. However, Drug Courts and DWI Courts may treat different populations, and questions about the effectiveness of DWI Courts and their services have yet to be adequately answered.

NHTSA is presently designing a program to evaluate DWI Courts to directly answer key questions pertaining to their effectiveness. But in order to do that, the agency first needs detailed information on how the DWI Courts are operating. This survey is designed to obtain that information. NHTSA proposes to collect information from all known operating DWI Courts and Hybrid DWI/Drug Courts. Each Court will be contacted by mail and/or email and asked to go to a designated Web site to fill out the questionnaire. The most recent figures (from the National Association of Drug Court Professionals (NADCP)) show 598 Courts operating in the United States that are either designated DWI Courts (192) or else Hybrid DWI/Drug Courts (406). That number is projected to increase to approximately 650 Courts by the time the survey is ready to enter the field. The survey will ask about case flow, eligibility criteria, management information systems, program staffing, treatment, testing, courtroom practices, sanctions, and other relevant program characteristics.

ADDRESSES: Send comments regarding the burden estimate, including suggestions for reducing the burden, to the Office of Information and Regulatory Affairs, Office of Management and Budget, 725 17th Street NW., Washington, DC 20503, Attention: Desk Officer for Department of Transportation, National Highway Traffic Safety Administration, or by email at oira_submission@omb.eop.gov, or fax: 202-395-5806.

Comments Are Invited On: Whether the proposed collection of information is necessary for the proper performance of the functions of the Department of Transportation, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication of this notice.

Authority: 44 U.S.C. 3506(c)(2)(A).

Jeffrey Michael,
Associate Administrator, Research and Program Development.

[FR Doc. 2013-09366 Filed 4-19-13; 8:45 am]

BILLING CODE 4910-59-P